DEPARTMENT OF THE INTERIOR

Fish and Wildlife Service

[FWS-R8-ES-2011-N062; 80221-1112-0000-F2]

Incidental Take Permit; San Bernardino County, CA; Proposed Habitat Conservation Plan, Draft Implementing Agreement, and Draft Environmental Assessment

AGENCY: Fish and Wildlife Service, Interior.

ACTION: Notice of availability.

SUMMARY: We, the U.S. Fish and Wildlife Service (Service), have received an application from Kinder Morgan Energy Partners, L.P. (Applicant), for an incidental take permit under the Endangered Species Act of 1973 (Act), as amended. We are considering issuing a 25-year permit to the Applicant that would authorize incidental take of the endangered Delhi Sands flower-loving fly incidental to activities related to operations and maintenance of storage and distribution facilities for petroleum products within the Colton and Colton North Terminals, and with habitat restoration and management on a proposed on-site conservation area located in the cities of Rialto and Colton, San Bernardino County, California. We request public comment on the proposed HCP, draft Implementing Agreement, and draft Environmental Assessment for the Applicant's proposed activities.

DATES: Send written comments on or before July 19, 2011.

ADDRESSES: Please send written comments to Jim Bartel, Field Supervisor, U.S. Fish and Wildlife Service, Carlsbad Fish and Wildlife Office, 6010 Hidden Valley Road, Suite 101, Carlsbad, CA 92011.You also may send comments by facsimile to (760) 431-5902.

FOR FURTHER INFORMATION CONTACT: Ken Corey, Assistant Field Supervisor, at the Carlsbad Fish and Wildlife Office address above; telephone (760) 431-9440.

SUPPLEMENTARY INFORMATION: We have received an application from Kinder Morgan Energy Partners, L.P. (Applicant), for an incidental take permit under the Endangered Species Act of 1973 (Act), as amended. We are considering issuing a 25-year permit to the Applicant that would authorize take of the endangered Delhi Sands flower-loving fly (Rhaphiomidas terminatus abdominalis) incidental to activities described in the Applicant's proposed Habitat Conservation Plan (HCP). The permit, if issued, would authorize incidental take of the species associated with proposed site preparation, future construction, and routine operations and maintenance of storage and distribution facilities for petroleum products on approximately 20 acres (ac) (8 hectares (ha)) within the Colton and Colton North Terminals, and with habitat restoration and management on a proposed approximately 20-ac (8-ha) on-site conservation area, located in the cities of Rialto and Colton, San Bernardino County, California.

Availability of Documents

Documents available for public review include the Applicant's permit application, proposed HCP, and accompanying draft Implementing Agreement, and the Service's draft Environmental Assessment.

For copies of the documents, please contact us by telephone at (760) 431-9440, or by letter to the Carlsbad Fish and Wildlife Office (see FOR FURTHER INFORMATION CONTACT). Copies are also available for public review, by appointment, during regular business hours at the Carlsbad Fish and Wildlife Office.

Background

Section 9 of the Act and Federal regulations prohibit the “take” of fish and wildlife species Federally listed as endangered or threatened. Take of Federally listed fish or wildlife is defined under the Act as to harass, harm, pursue, hunt, shoot, wound, kill, trap, capture, or collect listed species, or to attempt to engage in any such conduct (16 U.S.C. 1538). “Harm” includes significant habitat modification or degradation that actually kills or injures listed wildlife by significantly impairing essential behavioral patterns such as breeding, feeding, or sheltering (50 CFR 17.3). To “harass” includes the carrying out of an intentional or negligent act or omission that creates the likelihood of injury to wildlife by annoying it to such an extent as to significantly disrupt normal behavioral patterns such as breeding, feeding, or sheltering (50 CFR 17.3). Under limited circumstances, we may issue permits to authorize incidental take, which the Act defines as take that is incidental to, and not the purpose of, the carrying out of otherwise lawful activities. Regulations governing incidental take permits for threatened and endangered species are found in the Code of Federal Regulations (CFR) at 50 CFR 17.32 and 17.22, respectively. The incidental take permit, if issued, would confer assurances to the Applicant regarding the endangered Delhi Sands flower-loving fly under the Service's “No Surprises” regulation at 50 CFR 17.22(b)(5). Take authorization for the Delhi Sands flower-loving fly would become effective upon permit issuance.

Project Location

The Applicant is proposing site preparation (vegetation clearing and grading), future construction, and routine operations and maintenance of storage and distribution facilities for petroleum products on approximately 20 ac (8 ha) within the existing Colton and Colton North Terminals and their respective pipeline easements in San Bernardino County, California. The Colton Terminal is located in Rialto and Colton, on the east side of Riverside Avenue, south of Slover Avenue, and north of Santa Ana Avenue. The Colton North Terminal is located in Colton, on the east side of Sycamore Avenue, and north and south of Slover Avenue. The pipeline easements for the terminals traverse the cities of Ontario, Fontana, Rialto, and Colton, from the western end of Ontario International Airport to the Santa Ana River. Land uses surrounding the terminals include petroleum facilities, city streets, vacant lands, a flood control channel (Rialto Creek), and the Colton Dunes Conservation Bank (operated by Vulcan Materials Company as a conservation bank for the Delhi Sands flower-loving fly).

Project Information

The Applicant is proposing a variety of projects located both on and off the terminals. These projects are as follows:

(1) Clearance of all vegetation for future developments on several of the vacant parcels located on the Colton and Colton North Terminals.

(2) Construction of the Calnev Expansion Project, a new 16-inch- (41-centimeter-) diameter multiple-product pipeline in Colton. This project also includes the construction of a new electrical transmission line located just east of the Colton North Terminal.

(3) Future development of approximately 6.19 ac (2.5 ha) in the westernmost area of the Sycamore North Parcel.

(4) Routine operations and maintenance of all facilities, including excavations, inspections, and repairs to all the Applicant's pipelines and facilities located within the species' habitat. The combined total length of pipeline to be covered under the permit would be approximately 26 miles.

(5) Inspection, repair (if necessary), and permanent reburial of the exposed portion of Line Section 111, which is located on lands owned by Union Pacific east of the Colton North Terminal.

(6) The placement of Southern California Edison (SCE) substation facilities (i.e., electrical transmission line tower, access roads, etc.) off site, within lands owned by the Union Pacific Railroad Company, just outside the northeastern boundary of the Colton North Terminal.

Based on the results of focused surveys, we consider undeveloped portions of the proposed project area, which contain habitat of varying suitability, as occupied by the Delhi Sands flower-loving fly. Therefore, we have determined that the Applicant's proposed activities would result in incidental take of the Delhi Sands flower-loving fly. No other Federally listed species are known to occupy the site.

To minimize and mitigate incidental take of the Delhi Sands flower-loving fly within the project area, the Applicant proposes to set aside approximately 20 ac (8 ha) as a permanent, on-site conservation area. The Applicant would fund the restoration and management of the conservation area for the Delhi Sands flower-loving fly through an agreement with the Riverside Land Conservancy, a nonprofit land trust.

National Environmental Policy Act

We have prepared the draft Environmental Assessment under the National Environmental Policy Act, as amended (NEPA; 42 U.S.C. 4321 et seq.), to analyze the impacts of authorizing incidental take of the Delhi Sands flower-loving fly, based on the Applicant's application for an incidental take permit and the proposed HCP included with the application. The proposed HCP describes the Applicant's proposed development activities and the measures the Applicant will undertake to minimize and mitigate the effects of incidental take to the maximum extent practicable. The proposed issuance of an incidental take permit is a Federal action requiring Service compliance with NEPA and its implementing regulations at 40 CFR 1506.6. Our draft Environmental Assessment analyzes the environmental consequences of three alternatives: (1) The “Proposed Action,” which would result in Service issuance of an incidental take permit and implementation of the Applicant's proposed HCP; (2) an “Other Compensation Lands” alternative, which would involve permit issuance and implementation of a HCP based on the purchase of credits at the Colton Dunes Conservation Bank; and (3) a “No Action” alternative, which would not involve Service issuance of an incidental take permit or the Applicant's implementation of a HCP, would not result in impacts to the Delhi Sands flower-loving fly, and would not establish any additional conservation.

Public Review

We invite the public to comment on the proposed HCP, draft Implementing Agreement, and draft Environmental Assessment during our 60-day comment period (see DATES). Please direct comments to the Service contact listed in the ADDRESSES section, and any questions to the Service contact listed in the FOR FURTHER INFORMATION CONTACT section. Before including your address, phone number, e-mail address, or other personal identifying information in your comment, you should be aware that your entire comment—including your personal identifying information—may be made publicly available at any time. While you may ask us in your comment to withhold your personal identifying information from public review, we cannot guarantee that we will be able to do so.

Next Steps

We provide this notice under section 10(a) of the Act and Service regulations for implementing NEPA. We will evaluate the application, associated documents, and any public comments we receive to determine whether the application meets the requirements of NEPA regulations and section 10(a) of the Act. If we determine that those requirements are met, we will issue a permit to the Applicant for the incidental take of Delhi Sands flower-loving fly. We will make our final permit decision no sooner than 60 days after the date of this notice.

Michael Fris,
Acting Regional Director, Pacific Southwest Region, Sacramento, California.

[FR Doc. 2011-12413 Filed 5-19-11; 8:45 am]

BILLING CODE 4310-55-P